DEPARTMENT OF THE INTERIOR

Fish and Wildlife Service

[FWS-R9-MB-2011-N193; 91200-1231-WEBB-M3]

Information Collection Request Sent to the Office of Management and Budget (OMB) for Approval; National Mourning Dove Hunter Attitude Survey on Nontoxic Shot

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. We may not conduct or sponsor and a person is not required to respond to a collection of information unless it displays a currently valid OMB control number.

DATES: You must submit comments on or before October 26, 2011.

ADDRESSES: Send your comments and suggestions on this information collection to the Desk Officer for the Department of the Interior at OMB-OIRA at (202) 395-5806 (fax) or OIRA_DOCKET@OMB.eop.gov (e-mail). Please provide a copy of your comments to the Service Information Collection Clearance Officer, U.S. Fish and Wildlife Service, MS 2042-PDM, 4401 North Fairfax Drive, Arlington, VA 22203 (mail), or INFOCOL@fws.gov. (e-mail).

FOR FURTHER INFORMATION CONTACT: To request additional information about this ICR, contact Hope Grey at INFOCOL@fws.gov (e-mail) or 703-358-2482 (telephone). You may review the ICR online at http://www.reginfo.gov. Follow the instructions to review Department of the Interior collections under review by OMB.

SUPPLEMENTARY INFORMATION: OMB Control Number: 1018-NEW.

Title: National Mourning Dove Hunter Attitude Survey on Nontoxic Shot.

Service Form Number: 3-2386.

Type of Request: New.

Description of Respondents: Mourning dove hunters.

Respondent's Obligation: Voluntary.

Frequency of Collection: One-time.

Estimated Number of Annual Respondents: 23,470.

Estimated Number of Annual Responses: 23,470.

Estimated Completion Time per Response: 8.5 minutes.

Estimated Total Annual Burden Hours: 3,325.

Abstract: The Migratory Bird Treaty Act (MBTA) (16 U.S.C. 703 et seq.) prohibits the unauthorized take of migratory birds and authorizes the Secretary of the Interior to regulate take of migratory birds in the United States. Under this authority, we control the hunting of migratory game birds through regulations in 50 CFR part 20. On January 1, 1991, we banned lead shot for hunting waterfowl and coots in the United States. Wildlife managers and policymakers at all levels are becoming increasingly concerned about the exposure of mourning doves to spent lead shot.

The mourning dove is the most hunted migratory game bird species. We are asking OMB for approval to sponsor a National Mourning Dove Hunter Attitude Survey on Nontoxic Shot. The Association of Fish and Wildlife Agencies and all four Flyway Councils are collaborating on this survey. Information from this survey will help us make nontoxic shot policy decisions and develop appropriate informational and educational programs if new regulations are necessary.

Under the Migratory Bird Harvest Information Program (50 CFR 20.20), each State annually provides a list of all migratory bird hunters licensed by the State (OMB Control Number 1018-0023). We will use these lists to randomly select mourning dove hunters to participate in the proposed survey. We plan to collect:

• Demographic information (e.g., age, gender, income, education, and occupation).

• Information on hunting experiences (e.g, hunter type, distance traveled to hunt, type of ammunition, frequency of hunting, and positive and negative aspects).

• Perceived problems with nontoxic shot.

• Indirect influences with nontoxic shot.

Comments: On August 18, 2009, we published in the Federal Register (74 FR 41739) a notice soliciting public comment on this information collection for 60 days. The comment period ended on October 19, 2009. We received the following comments:

One comment protested the entire migratory bird hunting regulations process, surveys and monitoring programs, and the killing of all migratory birds. Response: Our long-term objectives continue to include providing opportunities to harvest portions of certain migratory game bird populations and limit harvest to levels compatible with each population's ability to maintain healthy, viable numbers. Our surveys are integral parts of the Service's monitoring programs that provide the information we need to ensure harvest levels are commensurate with current status of migratory game bird populations and long-term population goals.

Five comments stated that there was no biological basis or scientific evidence to warrant any type of nontoxic shot regulations on mourning doves. Response: This proposed information collection request does not presume anything one way or another about the quality or quantity of the scientific evidence for or against the use of lead shot for dove hunting. We simply express concern about the issue and recognize hunters are an important constituency. The whole purpose of this information collection is to better understand the hunting constituency.

One comment requested that we be objective in any future decision regarding the implementation of any nontoxic shot regulations. Response: We have a long history of making informed decisions based on the best available science to ensure protection of migratory birds for future generations. If any future decisions regarding the implementation of nontoxic shot regulations for migratory birds are deemed necessary, they will be objective, based on the best available science, and follow all guidelines under the National Environmental Protection Act.

Two comments requested that we consider banning the use of lead shot for mourning doves and other wildlife species. Response: Again, we do not presume anything one way or another about the quality or quantity of the scientific evidence for or against the use of lead shot for dove hunting. Furthermore, we are not assuming that future nontoxic regulations will be necessary or inevitable.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: September 21, 2011.
Tina A. Campbell,
Chief, Division of Policy and Directives Management, U.S. Fish and Wildlife Service.

[FR Doc. 2011-24630 Filed 9-23-11; 8:45 am]

BILLING CODE 4310-55-P